DEPARTMENT OF COMMERCE

National Oceanic and Atmospheric Administration

50 CFR Part 665

RIN 0648-AU71

Fisheries in the Western Pacific; Fishery Ecosystem Plans

AGENCY: National Marine Fisheries Service (NMFS), National Oceanic and Atmospheric Administration (NOAA), Commerce.

ACTION: Notice of availability of five new fishery ecosystem plans; request for comments.

SUMMARY: NMFS announces the availability for public review and comment of proposed Fishery Ecosystem Plans (FEPs) for American Samoa, Hawaii, Mariana Archipelago, Pacific remote island areas, and western Pacific pelagic fisheries. The FEPs would incorporate and reorganize elements of five existing western Pacific fishery management plans from a species- or fishery-basis, to one that is founded on geography. The FEPs would not change current management measures. The objectives of the FEPs are to be consistent with the Magnuson-Stevens Fishery Conservation and Management Act (Magnuson-Stevens Act) through the incorporation of ecosystem-based goals and principles in fishery management.

DATES: Comments on the amendment must be received by December 1, 2009.

ADDRESSES: Comments on the FEPs, identified by 0648-AU71, may be sent to either of the following addresses:

• Electronic Submission: Submit all electronic public comments via the Federal e-Rulemaking Portal www.regulations.gov; or

• Mail: Mail written comments to William L. Robinson, Regional Administrator, NMFS, Pacific Islands Region (PIR), 1601 Kapiolani Blvd, Suite 1110, Honolulu, HI 96814-4700.

Instructions: All comments received are a part of the public record and will generally be posted to www.regulations.gov without change. All personal identifying information (e.g., name, address, etc.) submitted voluntarily by the commenter may be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

A Programmatic Environmental Impact Statement (PEIS) was prepared for these FEPs. The PEIS and five FEPs are available from www.regulations.gov or the Western Pacific Fishery Management Council (Council), 1164 Bishop St., Suite 1400, Honolulu, HI 96813, 808-522-8220, fax 808-522-8226, www.wpcouncil.org.

FOR FURTHER INFORMATION CONTACT: Brett Wiedoff, NMFS PIR, 808-944-2272.

SUPPLEMENTARY INFORMATION: This Federal Register document is available at www.gpoaccess.gov/fr.

The Magnuson-Stevens Act authorizes the regional fishery management councils to create fishery management plans. The Council developed five FEPs, consistent with the Magnuson-Stevens Act and the national standards for fishery conservation and management. This notice announces that the FEPs are available for public review and comment for 60 days. NMFS will consider public comments received during the comment period in determining whether to approve, partially approve, or disapprove the FEPs.

To date, fisheries in the western Pacific have been managed through five species- or fishery-specific fishery management plans, specifically for bottomfish and seamount groundfish, crustaceans, precious corals, coral reef ecosystems, and western Pacific pelagic fisheries. The proposed FEPs would cover archipelagos or other broad geographic areas, including American Samoa, Hawaii, the Mariana Islands (Guam and the Northern Mariana Islands), the Pacific remote island areas (PRIA) (Palmyra Atoll, Kingman Reef, Jarvis Island, Baker Island, Howland Island, Johnston Atoll, and Wake Island), and one FEP would manage western Pacific pelagic fisheries. The FEPs would incorporate and reorganize elements of the five existing fishery management plans, and facilitate an ecosystem-based approach to fisheries management by the Council and NMFS.

Public comments on the five new FEPs must be received by December 1, 2009 to be considered by NMFS in the decision to approve, partially approve, or disapprove the new plans. NMFS expects to soon publish an associated proposed rule and request for public comments regarding restructuring the Code of Federal Regulations for western Pacific fisheries.

Authority: 16 U.S.C. 1801 et seq.

Dated: September 21, 2009.
Emily H. Menashes,
Acting Director, Office of Sustainable Fisheries, National Marine Fisheries Service.

[FR Doc. E9-23817 Filed 10-1-09; 8:45 am]

BILLING CODE 3510-22-S